DEPARTMENT OF COMMERCE

National Oceanic and Atmospheric Administration

[RTID 0648-XD030]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Tuesday, June 6 through Thursday, June 8, 2023. For agenda details, see SUPPLEMENTARY INFORMATION.

ADDRESSES: This meeting will be an in-person meeting with a virtual option. Council members, other meeting participants, and members of the public will have the option to participate in person at the Hilton Virginia Beach Oceanfront (3001 Atlantic Avenue, Virginia Beach, VA 23451, 757-213-3000) or virtually via Webex webinar. Webinar connection instructions and briefing materials will be available at: https://www.mafmc.org/briefing/june-2023.

Council address: Mid-Atlantic Fishery Management Council, 800 N State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible).

Tuesday, June 6, 2023

2024 Blueline Tilefish Specifications

Review recommendations from the Advisory Panel, SSC, Monitoring Committee, and staff

Review previously adopted commercial and recreational catch and landings limits for 2024 and revise as necessary

Review 2024 specifications and recommend changes if necessary

2024 Golden Tilefish Specifications

Review recommendations from the Advisory Panel, SSC, Monitoring Committee, and staff

Review 2024 specifications and recommend changes if necessary

Unmanaged Commercial Landings Report

Review annual report on landings of unmanaged species

Advanced Notice of Proposed Rulemaking (ANPR): National Standard 4, 8, and 9 Guidelines

(Dr. Tara Scott, NOAA Fisheries)

Presentation on NOAA Fisheries' request for comments on updating the Guidelines for National Standards 4, 8, and 9

Council Statement of Organization Practices and Procedures (SOPP) and Harassment Prevention Policies

Approve model harassment prevention policies

Approve revisions to Council SOPP

Wednesday, June 7, 2023

2024 Atlantic Surfclam and Ocean Quahog Specifications

Review recommendations from the Advisory Panel, SSC, and staff

Review 2024 specifications and recommend changes if necessary

Atlantic Surfclam and Ocean Quahog Advisory Panel Presentation

Advisors' perspectives and requests on their critical issues noted in Fishery Performance Report

2024 Butterfish Specifications

Review recommendations from the Advisory Panel, SSC, Monitoring Committee, and staff

Review 2024 specifications and recommend changes if necessary

2024 Atlantic Chub Mackerel Specifications

Review recommendations from the Advisory Panel, SSC, Monitoring Committee, and staff

Review 2024 specifications and recommend changes if necessary

Highly Migratory Species (HMS) Update

(Karyl Brewster, Rulemaking Branch Chief—HMS Division, NOAA Fisheries)

Proposed rule for Amendment 15 (spatial management and electronic monitoring)

Advance Notice of Proposed Rulemaking: Electronic Reporting Requirements for HMS

Scoping for Amendment 16 (shark management issues)

Monkfish and Dogfish Joint Framework To Reduce the Bycatch of Atlantic Sturgeon (Framework Meeting #1)

Review Advisory Panel and Committee recommendations

Review and approve range of alternatives

Draft 2024-2028 Regional Strategic Plan

(Mike Pentony, Regional Administrator, NOAA Fisheries)

Presentation by GARFO for Council review and discussion

Offshore Wind Update

Update from Bureau of Ocean Energy Management

Update from state working group on compensation

Update from NOAA Fisheries

Thursday, June 8, 2023

Business Session

Committee Reports (SSC, Ecosystem and Ocean Planning); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c).

Special Accommodations

These meetings are physically accessible to people with disabilities. Requests for sign language interpretation or other auxiliary aid should be directed to Shelley Spedden, (302) 526-5251, at least 5 days prior to the meeting date.

Authority: 16 U.S.C. 1801 et seq.

Dated: May 16, 2023.
Rey Israel Marquez,
Acting Deputy Director, Office of Sustainable Fisheries, National Marine Fisheries Service.

[FR Doc. 2023-10791 Filed 5-18-23; 8:45 am]

BILLING CODE 3510-22-P